DEPARTMENT OF TRANSPORTATION

National Highway Traffic Safety Administration

[Docket No. NHTSA-2021-0065; Notice 1]

Goodyear Tire & Rubber Company, Formerly Cooper Tire & Rubber Company, Receipt of Petition for Decision of Inconsequential Noncompliance

AGENCY: National Highway Traffic Safety Administration (NHTSA), Department of Transportation (DOT).

ACTION: Receipt of petition.

SUMMARY: Goodyear Tire & Rubber Company (Goodyear), who acquired Cooper Tire & Rubber Company (Cooper Tire), has determined that certain Cooper Discoverer SRX replacement passenger car tires do not fully comply with Federal Motor Vehicle Safety Standard (FMVSS) No. 139, New Pneumatic Radial Tires for Light Vehicles. Cooper Tire filed a noncompliance report dated August 19, 2021, and amended it on August 24, 2021. Additionally, Goodyear petitioned NHTSA on August 20, 2021, for a decision that the subject noncompliance is inconsequential as it relates to motor vehicle safety. This notice announces receipt of Goodyear's petition.

DATES: Send comments on or before May 20, 2024.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547, jayton.lindley@dot.gov.

SUPPLEMENTARY INFORMATION:

I. Overview: Goodyear has determined that certain Cooper Discoverer SRX passenger car tires do not fully comply with the requirements of paragraph S5.5.1(b) of FMVSS No. 139, New Pneumatic Radial Tires for Light Vehicles (49 CFR 571.139). Cooper Tire filed a noncompliance report dated August 19, 2021, and amended it on August 24, 2021, pursuant to 49 CFR part 573, Defect and Noncompliance Responsibility and Reports. Goodyear additionally petitioned NHTSA on August 20, 2021, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of Goodyear's petition is published under 49 U.S.C. 30118 and 30120 and does not represent any Agency decision or other exercise of judgment concerning the merits of the petition.

II. Tires Involved: Approximately 730 Cooper Discoverer SRX, size 255/55R20 110H XL, replacement passenger car tires, manufactured between March 28, 2021, and April 24, 2021, are potentially involved.

III. Noncompliance: Goodyear explains that the noncompliance is that the Tire Information Number (TIN) on the subject tires exceeds the number of characters allowed and therefore, does not fully comply with part 574.5(g)(3), as required by S5.5.1 of FMVSS No. 139. Specifically, the 4-symbol curing press ID (C13R) was transposed with the 4-symbol numeric date code resulting in a TIN that appears to contain 15 characters, thus containing three more characters than permitted in 49 CFR 574.5 for TINs that utilize the two-symbol plant code.

IV. Rule Requirements: Section 49 CFR 574.5(a) and paragraph S5.5.1(b) of FMVSS No. 139 include the requirements relevant to this petition.

• For tires manufactured on or after September 1, 2009, each tire must be labeled with the tire identification number required by 49 CFR part 574 on the intended outboard sidewall of the tire.

• Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other sidewall.

V. Summary of Goodyear's Petition: The following views and arguments presented in this section, “V. Summary of Goodyear's Petition,” are the views and arguments provided by Goodyear. They have not been evaluated by the Agency and do not reflect the views of the Agency. Goodyear describes the subject noncompliance and contends that the noncompliance is inconsequential as it relates to motor vehicle safety.

In support of its petition, Goodyear submits the following reasoning:

According to Goodyear, the subject tires “meet or exceed” the applicable FMVSS performance requirements and the noncompliance does not affect “the performance of the tires or the safe operation of the vehicles on which they are installed.”

Additionally, in the event of a field action, the noncompliant TIN marking could be included in the notification letter sent to the consumer.

Goodyear cites the following previously granted inconsequentiality petitions which it says pertain to noncompliances that are similar to the subject noncompliance:

• Bridgestone Firestone North America Tire, LLC, Grant of Petition for Decision of Inconsequential Noncompliance; 71 FR 4396 (January 26, 2006).

• Cooper Tire & Rubber Company; Grant of Application for Decision of Inconsequential Noncompliance; 63 FR 29060, (May 27, 1998).

Goodyear concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that Goodyear no longer controlled at the time it determined that the noncompliance existed. However, any decision on this petition does not relieve equipment distributors and dealers of the prohibitions on the sale, offer for sale, or introduction or delivery for introduction into interstate commerce of the noncompliant tires under their control after Goodyear notified them that the subject noncompliance existed.

(Authority: 49 U.S.C. 30118, 30120: delegations of authority at 49 CFR 1.95 and 501.8)

Otto G. Matheke III,
Director, Office of Vehicle Safety Compliance.

[FR Doc. 2024-08275 Filed 4-17-24; 8:45 am]

BILLING CODE 4910-59-P